DEPARTMENT OF LABOR

Employment and Training Administration

[TA-W-58,620]

Bankers Trust Services A/K/A Deutsche Bank Services Tennessee, Inc., Nashville, TN; Notice of Negative Determination Regarding Application for Reconsideration

By application dated February 22, 2006 a petitioner requested administrative reconsideration of the Department's negative determination regarding eligibility for workers and former workers of the subject firm to apply for Trade Adjustment Assistance (TAA). The denial notice applicable to workers of Bankers Trust Services, a/k/a Deutsche Bank Services Tennessee, Inc., Nashville, Tennessee was signed on January 26, 2006 and published in the Federal Register on February 10, 2006 (71 FR 7077).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition filed on behalf of workers at Bankers Trust Services, a/k/a Deutsche Bank Services Tennessee, Inc., Nashville, Tennessee were engaged in providing general banking and financial services to the public and were denied because the petitioning workers did not produce an article within the meaning of section 222 of the Act.

The petitioner contends that the Department erred in its interpretation of work performed at the subject facility as providing a service and further conveys that workers of the subject firm “produced individualized billing models with separate tangible file folders”. The petitioner further states that “billing would have been impossible without the production of these individualized billing models”.

A company official was contacted for clarification in regard to the nature of the work performed at the subject facility. The official stated that the subject firm does not manufacture products that are sold on the open market. The official further clarified that workers of the subject firm entered account information into an in-house billing system for the purpose of billing external clients. The copies of the work that was entered into the system was kept in a tangible file folder at the subject firm for reference purposes.

The sophistication of the work involved is not an issue in ascertaining whether the petitioning workers are eligible for trade adjustment assistance, but whether they produce an article within the meaning of section 222 of the Trade Act of 1974.

Entering accounting information into the billing system and making copies of the billing financial data for filing purposes is not considered production of an article within the meaning of section 222 of the Trade Act. Petitioning workers do not produce an “article” within the meaning of the Trade Act of 1974.

The investigation on reconsideration supported the findings of the primary investigation that the petitioning group of workers does not produce an article. Furthermore, workers of the subject firm did not support production of an article at any affiliated facility.

The petitioner further alleges that because workers lost their jobs due to a transfer of job functions to India, petitioning workers should be considered import impacted.

The company official stated that such functions as entry of accounting information into a Deutsche Bank billing system for the purpose of billing external clients were shifted to India.

Your petition allegation of jobs transferred to a foreign country might be relevant if all other worker group eligibility requirements for trade adjustment assistance were met. However, workers of the subject firm are engaged in data entry of the account information into the in-house billing system and do not meet the requirement of producing an article as established in section 222 of the Trade Act. Thus, the workers in this case do not meet the worker group eligibility requirements of TAA.

Service workers can be certified only if worker separations are caused by a reduced demand for their services from a parent or controlling firm or subdivision whose workers produce an article domestically who meet the eligibility requirements, or if the group of workers are leased workers who perform their duties at a facility that meet the eligibility requirements.

Conclusion

After review of the application and investigative findings, I conclude that there has been no error or misinterpretation of the law or of the facts which would justify reconsideration of the Department of Labor's prior decision. Accordingly, the application is denied.

Signed at Washington, DC, this 11th day of April, 2006.
Elliott S. Kushner,
Certifying Officer, Division of Trade Adjustment Assistance.

[FR Doc. E6-5764 Filed 4-17-06; 8:45 am]

BILLING CODE 4510-30-P